DEPARTMENT OF JUSTICE

Notice of Lodging of Proposed Consent Decrees Under the Comprehensive Environmental Response, Compensation, and Liability Act

Notice is hereby given that two Consent Decrees in United States of America v. M.A. Hanna Plastics, Inc., et al., Civil Action No. 06-409 GMS, have been lodged with the United States District Court for the District of Delaware. The United States lodged a consent decree with defendant Wilmington Economic Development Corporation / (“WEDCO”) on August 8, 2008, and lodged a consent decree with defendant M.A. Hanna Plastics Group /“Hanna”) on August 14, 2008.

The two consent decrees will resolve the liability of the two remaining defendants in this cost recovery action under Section 107 of the Comprehensive Environmental Response, Compensation and Liability Act / (“CERCLA”), 42 U.S.C. 9607 in connection with the 12th Street Dump Site in Wilmington, Delaware /(“Site”). On June 28, 2006, the United States filed a Complaint against four defendants who currently or previously owned or operated property at the Site. The United States previously settled with two of the named defendants.

The two consent decrees now being proposed will resolve the United States' filed claims against the two remaining defendants, Hanna and WEDCO, as set forth in the consent decrees. Hanna will reimburse the United States $3,597,877.20 and will receive a covenant not to sue for past costs. WEDCO will reimburse the United States $120,000 in past costs and will agree to sell its parcel and provide the United States with the higher of either 50% of the net proceeds or $40,000.00. WEDCO will also receive a covenant not to sue for past costs.

The Department of Justice will receive for a period of thirty (30) days from the date of this publication comments relating to these proposed Consent Decrees. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States of America v. M.A. Hanna Plastics, Inc., et al. , Civil Action No. 06-409 GMS, DOJ # 90-11-3-08301.

The proposed Consent Decree may be examined at the Office of the United States Attorney for the District of Delaware, Nemours Building, P.O. Box 2046, Wilmington, DE 19801. During the public comment period, the consent decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ $7.00 for the consent decree with WEDCO, and/or $5.25 for the consent decree with M.A. Hanna (25 cents per page reproduction cost for a full copy) payable to the U.S. Treasury.

Maureen M. Katz,
Assistant Chief, Environmental Enforcement Section, Environment and Natural Resources Division.

[FR Doc. E8-19447 Filed 8-21-08; 8:45 am]

BILLING CODE 4410-15-P